DEPARTMENT OF LABOR

Occupational Safety and Health Administration

[Docket No. OSHA-2018-0005]

Whistleblower Stakeholder Meeting

AGENCY: Occupational Safety and Health Administration (OSHA), Labor.

ACTION: Notice of public meeting.

SUMMARY: The Occupational Safety and Health Administration (OSHA) is announcing a public meeting to solicit comments and suggestions from stakeholders on issues facing the agency in the administration of the whistleblower laws it enforces.

DATES: The public meeting will be held on May 19, 2021, from 1:00 p.m. to 4:00 p.m., ET via telephone. Persons interested in attending the meeting must register by May 12, 2021. In addition, comments relating to the “Scope of Meeting” section of this document must be submitted in written or electronic form by May 12, 2021.

ADDRESSES:

Electronically: You may submit materials, including attachments, electronically at http://www.regulations.gov, which is the Federal eRulemaking portal. Follow the on-line instructions for submissions. All comments should be identified with Docket No. OSHA-2018-0005.

Mail, hand delivery, express mail, messenger, or courier service: When using this method, you must submit a copy of your comments and attachments to the OSHA Docket Office, OSHA Docket No. OSHA-2018-0005, Occupational Safety and Health Administration, U.S. Department of Labor, Room N-3653, 200 Constitution Avenue NW, Washington, DC 20210. Please note: While OSHA's Docket Office is continuing to accept and process submissions by regular mail, due to the COVID-19 pandemic, the Docket Office is closed to the public and not able to receive submissions to the docket by hand, express mail, messenger, and courier service.

Registration to Attend and/or to Participate in the Telephonic Meeting: If you wish to attend the public meeting, make an oral presentation at the meeting, or participate in the meeting, you must register using this link: https://www.eventbrite.com/e/whistleblower-stakeholder-meeting-tickets-146767279885 by close of business on May 12, 2021. Actual times provided for presentation will depend on the number of requests, but no more than 10 minutes per participant will be allowed. There is no fee to register for the public meeting. After reviewing the requests to present, OSHA will contact each participant prior to the meeting to inform them of the speaking order.

FOR FURTHER INFORMATION CONTACT:

For press inquiries: Mr. Frank Meilinger, Director, OSHA Office of Communications, U.S. Department of Labor; telephone: (202) 693-1999; email: meilinger.francis2@dol.gov.

For general information: Mr. Anthony Rosa, Deputy Director, OSHA Directorate of Whistleblower Protection Programs, U.S. Department of Labor; telephone: (202) 693-2199; email: osha.dwpp@dol.gov.

SUPPLEMENTARY INFORMATION:

A. Scope of Meeting

OSHA is interested in obtaining information from the public on key issues facing the agency's whistleblower program. This meeting is the seventh in a series of meetings requesting public input on this program. The agency is seeking suggestions on how it can improve the program. Please note that the agency does not have the authority to change the statutory language and requirements of the laws it enforces. In particular, the agency invites input on the following:

1. How can OSHA deliver better whistleblower customer service?

2. What kind of assistance can OSHA provide to help explain the agency's whistleblower laws to employees and employers?

3. What can OSHA do to ensure that workers are protected from retaliation for raising concerns related to the pandemic?

B. Request for Comments

Regardless of attendance at the public meeting, interested persons may submit written or electronic comments (see ADDRESSES above). Submit a single copy of electronic comments or two paper copies of any mailed comments. To permit time for interested persons to submit data, information, or views on the issues in the “Scope of Meeting” section of this notice, please submit comments by May 12, 2021, and include Docket No. OSHA-2018-0005.

C. Access to the Public Record

Electronic copies of this Federal Register notice are available at: http://www.regulations.gov. This notice, as well as news releases and other relevant information, also is available on the Directorate of Whistleblower Protection Programs' web page at: http://www.whistleblowers.gov.

Authority and Signature

James S. Frederick, Principal Deputy Assistant Secretary for Occupational Safety and Health, authorized the preparation of this notice under the authority granted by Secretary's Order 08-2020 (May 15, 2020).

Signed at Washington, DC, on April 2, 2021.
James S. Frederick,
Principal Deputy Assistant Secretary of Labor for Occupational Safety and Health.

[FR Doc. 2021-07213 Filed 4-7-21; 8:45 am]

BILLING CODE 4510-26-P